DEPARTMENT OF TRANSPORTATION

Federal Aviation Administration

Aviation Rulemaking Advisory Committee Meeting on Transport Airplane and Engine Issues

AGENCY: Federal Aviation Administration (FAA), DOT.

ACTION: Notice of public meeting.

SUMMARY: This notice announces a public meeting of the FAA's Aviation Rulemaking Advisory Committee (ARAC) to discuss transport airplane and engine (TAE) issues.

DATES: The meeting is scheduled for October 16 from 9 a.m. to 5 p.m., and October 17 from 9 a.m. to noon. Arrange for oral presentations by October 11.

ADDRESSES: Boeing Facility, 1200 Wilson Boulevard, Room 234, Arlington, VA.

FOR FURTHER INFORMATION CONTACT: Effie M. Upshaw, Office of Rulemaking, ARM-209, FAA, 800 Independence Avenue, SW., Washington, DC 20591, Telephone (202) 267-7626, FAX (202) 267-5075, or e-mail at effie.upshaw@faa.gov.

SUPPLEMENTARY INFORMATION: Pursuant to section 10(a)(2) of the Federal Advisory Committee Act (Pub. L. 92-463; 5 U.S.C. app. III), notice is given of an ARAC meeting to be held October 16-17 in Arlington, Virginia.

The agenda will include:

October 16, 2002

• Opening remarks

• FAA/Joint Aviation Authorities Conference report

• FAA report

• JAA report, including statuses of Single Worldwide Certification Code and the European Aviation Safety Agency

• Transport Canada report

• Executive Committee report

• Harmonization Management Team report

• ARAC tasking priorities discussion

• Design for Security Harmonization Working Group (HWG) report and approval

• Powerplant Installation HWG report and approval

• Ice Protection HWG report and approval

• Loads & Dynamics HWG report and approval

• Human Factors HWG report

• Mechanical Systems HWG report

• Electrical Systems HWG report and update on Aging Transport Systems Rulemaking Advisory Committee activity

• Written reports, as required, from the following harmonization working groups: Electromagnetic Effects, Flight Test, Avionics, Seat Test, Flight Control, Flight Guidance, and System Design and Analysis

October 17, 2002

• General Structures HWG report

• Airworthiness Assurance Working Group report

• Engine HWG report and approval

Four working groups will be seeking approval of working group documents:

1. The Design for Security HWG will present proposed advisory material on passenger cabin smoke evacuation.

2. The Powerplant Installation HWG will present proposed certification requirements for areas in transport category airplanes that are subject to flammable fluid leakage.

3. The Ice Protection HWG will present a recommendation addressing the operation of aircraft in icing conditions.

4. The Engine HWG will present a recommendation addressing bird ingestion standards for aircraft turbine engines

Attendance is open to the public, but will be limited to the availability of meeting room space and telephone lines. Visitor badges are required to gain entrance to the Boeing building where the meeting is being held. Please confirm your attendance with the person listed in the FOR FURTHER INFORMATION CONTACT section no later than October 11. Please provide the following information: full legal name, country of citizenship, and name of your company, if applicable.

For those participating by telephone, the call-in number is (206) 655-0054, Passcode: 3777#. Details are also available on the ARAC calendar at http://www.faa.gov/avr/arm/araccal/htm. To insure that sufficient telephone lines are available, please notify the person listed in the FOR FURTHER INFORMATION CONTACT section of your intent by October 11. Anyone participating by telephone will be responsible for paying long-distance charges.

The public must make arrangements by October 11 to present oral statements at the meeting. Written statements may be presented to the committee at any time by providing 25 copies to the person listed in the FOR FURTHER INFORMATION CONTACT section or by providing copies at the meeting. Copies of the documents to be presented to ARAC for decision or as recommendations to the FAA may be made available by contacting the person listed in the FOR FURTHER INFORMATION CONTACT section.

If you are in need of assistance or require a reasonable accommodation for the meeting or meeting documents, please contact the person listed in the FOR FURTHER INFORMATION CONTACT section. Sign and oral interpretation, as well as a listening device, can be made available if requested 10 calendar days before the meeting.

Issued in Washington, DC, on September 27, 2002.
Tony F. Fazio,
Director, Office of Rulemaking.

[FR Doc. 02-25319 Filed 10-3-02; 8:45 am]

BILLING CODE 4910-13-M